DEPARTMENT OF THE INTERIOR

National Park Service

Fire Management Plan, Final Environmental Impact Statement, Grand Canyon National Park, AZ

AGENCY: National Park Service, Department of the Interior.

ACTION: Notice of Availability of the Final Environmental Impact Statement for the Fire Management Plan, Grand Canyon National Park.

SUMMARY: Pursuant to the National Environmental Policy Act of 1969, 42 U.S.C. 4332(2)(C), the National Park Service announces the availability of the Final Environmental Impact Statement for the Fire Management Plan for Grand Canyon National Park, Arizona. The document describes and analyzes the environmental impacts of several action alternatives, including the preferred alternative for management of fire in Grand Canyon National Park. The preferred alternative analyzes the use of prescribed fire, wildland fire use, suppression fire and manual and mechanical thinning. A no-action alternative was also evaluated. Alternative 2 (Mixed Fire Treatment) was selected as the preferred alternative.

DATES: The National Park Service will execute a Record of Decision (ROD) no sooner than 30 days following publication by the Environmental Protection Agency of the Notice of Availability of the Final Environmental Impact Statement.

ADDRESSES: Information will be available for public inspection online at http://parkplanning.nps.gov/grca (select Fire Management Plan), in the Office of the Superintendent, Steve Martin, PO Box 129, Grand Canyon, Arizona, 86023, 928-638-7945, or in the Office of Planning and Compliance, Mary Killeen, PO Box 129, Grand Canyon, Arizona, 86023, 928-638-7885.

FOR FURTHER INFORMATION CONTACT: Chris Marks, Project Lead, Fire Management Plan, PO Box 129, Grand Canyon, Arizona, 86023, 928-606-1050, Christopher_marks@nps.gov.

Dated: June 30, 2009.
Michael D. Snyder,
Regional Director, Intermountain Region, National Park Service.

[FR Doc. E9-18996 Filed 8-6-09; 8:45 am]

BILLING CODE 4312-ED-P